DEPARTMENT OF HOMELAND SECURITY

Coast Guard

33 CFR Part 165

[Docket Number USCG-2024-0261]

RIN 1625-AA11

Safety Zones, Lake Erie and Cuyahoga River, Cleveland, OH

AGENCY: Coast Guard, Department of Homeland Security (DHS).

ACTION: Temporary final rule.

SUMMARY: The Coast Guard is establishing temporary safety zones for certain waters of Lake Erie and the Cuyahoga River. This action is necessary to provide for the safety of life on these navigable waters near Cleveland, Ohio during the 2024 Pan-American Masters Games (Aquatic Sporting Events) from July 13 through July 14, 2024. This action would prohibit persons and vessels from entering these safety zones unless authorized by the Captain of the Port Sector Eastern Great Lakes or a designated representative.

DATES: This rule is effective from July 13, 2024, through July 14, 2024.

ADDRESSES: To view documents mentioned in this preamble as being available in the docket, go to https://www.regulations.gov, type USCG-2024-0261 in the search box and click “Search.” Next, in the Document Type column, select “Supporting & Related Material.”

FOR FURTHER INFORMATION CONTACT: If you have questions about this rulemaking, contact LT Jared Stevens with the U.S. Coast Guard Marine Safety Unit Cleveland's Waterways Management Division; via telephone at 216-937-0111, or by email at D09-SMB-MSUCLEVELAND-WWM@uscg.mil.

SUPPLEMENTARY INFORMATION:

I. Table of Abbreviations

CFR Code of Federal Regulations

COTP Captain of the Port Sector Eastern Great Lakes

DHS Department of Homeland Security

FR Federal Register

NPRM Notice of proposed rulemaking

§ Section

U.S.C. United States Code

II. Background Information and Regulatory History

On January 22, 2024, the Greater Cleveland Sports Commission notified the Coast Guard that it will be hosting the 2024 Pan-American Masters Games (Aquatic Sporting Events) from July 12 through July 15, 2024. Originally, the five (5) Aquatic Sporting Events were: Sailing, Triathlon (swim portion), Stand Up Paddleboard—Technical, Stand-Up Paddleboard—Distance, and Rowing. Since the original request, the event sponsor has limited the Aquatic Sporting Events to only Triathlon (swim portion) and Rowing. Details are found later in this document. These events are to take place in Lake Erie offshore adjacent to Edgewater Beach, and within the Cuyahoga River in Cleveland, Ohio. The Captain of the Port Sector Eastern Great Lakes has determined that safety zones covering certain navigable waters of Lake Erie, and the Cuyahoga River in Cleveland, Ohio, are needed to protect participants during the 2024 Pan-American Masters Games' Aquatic Events.

In response, on May 8, 2024, the Coast Guard published a notice of proposed rulemaking (NPRM) titled Safety Zones, Lake Erie and Cuyahoga River, Cleveland, OH (89 FR 38857). There we stated why we issued the NPRM and invited comments on our proposed regulatory action related to these aquatic events. During the comment period that ended June 7, 2024, we received one comment that was unrelated to the proposed rulemaking.

III. Legal Authority and Need for Rule

The Coast Guard is issuing this rule under authority in 46 U.S.C. 70034, 70051; 70124, 33 CFR 1.05-1, 6.04-1, 6.04-6, and 160.5; Department of Homeland Security Delegation No. 00170.1, Revision No. 01.3. The Captain of the Port Sector Eastern Great Lakes has determined that safety zones covering certain navigable waters of Lake Erie, and the Cuyahoga River in Cleveland, Ohio, are needed to protect participants during the 2024 Pan-American Masters Games' Aquatic Events.

IV. Discussion of Comments, Changes, and the Rule

As noted above, we received one comment that was unrelated to our NPRM published May 8, 2024. There are changes in the regulatory text of this rule from the proposed rule in the NPRM due to the reduction of the planned Aquatic Sporting Events from five (5) to two (2), and a reconfiguration of the Safety Zone for the July 13 Triathlon (swim) portion practice day. This rule establishes the following safety zones:

(1) Triathlon (Practice Day): The boundaries of the July 13, 2024 practice Triathlon (swim portion) safety zone form a rectangle of which the four corners of the polygon are located in the following positions: (1) 41°29′27.46″ N, 081°44′22.51″ W; (2) 41°29′31.98″ N, 081°44′24.01″ W, (3) 41°29′28.80″ N, 081°44′33.01″ W, (4) 41°29′17.72″ N, 81°44′30.25″ W. The COTP will enforce this safety zone from 9:30 a.m. to 2:00 p.m. on July 13, 2024.

(2) Triathlon (Event Day): The boundaries of the July 14 Triathlon (swim portion) safety zone form a rectangle of which the four corners of the polygon are located in the following positions: (1) 41°29′15.76″ N, 081°44′46.34″ W; (2) 41°29′27.96″ N, 081°44′49.87″ W, (3) 41°29′31.98″ N, 081°44′24.01″ W, (4) 41°29′27.46″ N, 81°44′22.51″ W. The COTP will enforce this safety zone from 5:30 a.m. to 9:30 a.m. on July 14, 2024.

(3) Rowing: The safety zone covers all navigable waters of the Cuyahoga River in Cleveland, Ohio between the following two boundaries, which are formed by lines extending perpendicular from bank to bank, centered on: (1) 41°29′35.09″ N, 081°42′14.19″ W (near Center Street Bridge), and (2) 41°29′23.64″ N, 081°41′37.28″ W (near Carnegie Avenue Bridge). The COTP will enforce the safety zone from 5:30 a.m. to 1:30 p.m. on July 14, 2024.

V. Regulatory Analyses

We developed this rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). Accordingly, this rule has not been reviewed by the Office of Management and Budget (OMB).

This regulatory action determination is based on the size, location, duration, and time of day of the regulated area. These safety zones will restrict navigation through the two (2) Aquatic Sports areas: (1) Triathlon for four and one-half (4.5) hours on one day, and four (4) hours on one day, and (2) Rowing for eight (8) hours on one day. For a total of 16.5 hours over the course of three days.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received no comments from the Small Business Administration on this rulemaking. The Coast Guard certifies under 5 U.S.C. 605(b) that this rule will not have a significant economic impact on a substantial number of small entities.

While some owners or operators of vessels intending to transit the safety zone may be small entities, for the reasons stated in section V. A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please call or email the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule will not call for a new collection of information under the Paperwork Reduction Act of 1995 (44 U.S.C. 3501-3520).

D. Federalism and Indian Tribal Governments

A rule has implications for federalism under Executive Order 13132, Federalism, if it has a substantial direct effect on the States, on the relationship between the National Government and the States, or on the distribution of power and responsibilities among the various levels of government. We have analyzed this rule under that Order and have determined that it is consistent with the fundamental federalism principles and preemption requirements described in Executive Order 13132.

Also, this rule does not have Tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Environment

We have analyzed this rule under Department of Homeland Security Directive 023-01, Rev. 1, associated implementing instructions, and Environmental Planning COMDTINST 5090.1 (series), which guide the Coast Guard in complying with the National Environmental Policy Act of 1969(42 U.S.C. 4321-4370f), and have determined that this action is one of a category of actions that do not individually or cumulatively have a significant effect on the human environment. This rule involves the following safety zones:

(1) Triathlon: safety zone lasting 4.5 hours that prohibits entry in, out, or through waters of Lake Erie adjacent to Edgewater Beach in Cleveland, Ohio on July 13, 2024, and then again for 4.0 hours on July 14, 2024.

(2) Rowing: safety zone lasting 8.0 hours that would prohibit entry in, out, or through the Cuyahoga River from the Center Street Bridge to the Carnegie Avenue Bridge on July 14, 2024.

It is categorically excluded from further review under paragraph L63a of Appendix A, Table 1 of DHS Instruction Manual 023-01-001-01, Rev. 1. A Record of Environmental Consideration supporting this determination is available in the docket. For instructions on locating the docket, see the ADDRESSES section of this preamble.

G. Protest Activities

The Coast Guard respects the First Amendment rights of protesters. Protesters are asked to call or email the person listed in the FOR FURTHER INFORMATION CONTACT section to coordinate protest activities so that your message can be received without jeopardizing the safety or security of people, places or vessels.

List of Subjects in 33 CFR Part 165

Harbors, Marine safety, Navigation (water), Reporting and recordkeeping requirements, Security measures, Waterways.

For the reasons discussed in the preamble, the Coast Guard is amending 33 CFR part 165 as follows:

PART 165—REGULATED NAVIGATION AREAS AND LIMITED ACCESS AREAS

1. The authority citation for part 165 continues to read as follows.

Authority: 46 U.S.C. 70034, 70051, 70124; 33 CFR 1.05-1, 6.04-1, 6.04-6, and 160.5; Department of Homeland Security Delegation No. 00170.1, Revision No. 01.3.

2. Add § 165.T09-0261 to read as follows:

§ 165.T09-0261 Safety Zones, Lake Erie and Cuyahoga River, Cleveland, OH.

(a) Location and enforcement period. The following safety zones will be enforced from July 13, 2024, through July 14, 2024, as described in paragraphs (a)(1) and (2) of this section within the Captain of the Port Zone Eastern Great Lakes (COTP) in the vicinity of Cleveland, Ohio.

Event | Location ¹ | Enforcement dates and times ²
(1) (i) Triathlon (Practice Day) | All navigable waters of Lake Erie adjacent to Edgewater Beach in Cleveland, Ohio, within a rectangle of which the four corners of the polygon are located in the following positions: (1) 41°29′27.46″ N, 081°44′22.51″ W; (2) 41°29′31.98″ N, 081°44′24.01″ W, (3) 41°29′28.80″ N, 081°44′33.01″ W, (4) 41°29′17.72″ N, 81°44′30.25″ W | July 13, from 9:30 a.m. to 2 p.m.
(ii) Triathlon (Event Day) | All navigable waters of Lake Erie adjacent to Edgewater Beach in Cleveland, Ohio, within a rectangle of which the four corners of the polygon are located in the following positions: (1) 41°29′15.76″ N, 081°44′46.34″ W; (2) 41°29′27.96″ N, 081°44′49.87″ W, (3) 41°29′31.98″ N, 081°44′24.01″ W, (4) 41°29′27.46″ N, 81°44′22.51″ W | July 14 from 5:30 a.m. to 9:30 a.m.
(2) Rowing | All navigable waters of the Cuyahoga River in Cleveland, Ohio between the following two boundaries, which are formed by lines extending perpendicular from bank to bank, centered on: (1) 41°29′35.09″ N, 081°42′14.19″ W (near Center Street Bridge), and (2) 41°29′23.64″ N, 081°41′37.28″ W (near Carnegie Avenue Bridge) | July 14 from 5:30 a.m. to 1:30 p.m.
¹ All coordinates listed in paragraphs (a)(1) and (2) of this section reference Datum NAD 1983.
² The enforcement dates and times for each of the listed safety zones are subject to change. In the event of a change, the COTP will provide notice to the public by issuing a Broadcast Notice to Mariner and by updating the Local Notice to Mariners (if practicable).

(b) Definitions. As used in this section:

Official patrol vessel means any Coast Guard, State or local law enforcement and sponsor provided vessel designated or assigned by the Captain of the Port Sector Eastern Great Lakes, to patrol the event.

Participant means all persons and vessels attending the event.

Spectator means all persons and vessels not registered with the production company as participants or official patrol vessels.

(c) Regulations. (1) The Coast Guard may patrol the event areas under the direction of a designated Coast Guard Patrol Commander. The Patrol Commander may be contacted on Channel 16 VHF-FM (156.8 MHz) by the call sign “PATCOM.”

(2) All persons and vessels not registered with the sponsor as participants or official patrol vessels are considered spectators.

(3) Spectator vessels desiring to transit the regulated area may do so only with prior approval of the Patrol Commander and when so directed by that officer; spectator vessels will be operated at a no-wake speed in a manner which will not endanger participants in the event or any other craft.

(4) No spectator shall anchor, block, loiter, or impede the through-transit of official patrol vessels in the regulated area during the effective dates and times, unless cleared for entry by or through an official patrol vessel.

(5) The Patrol Commander may forbid and control the movement of all vessels in the regulated area. When hailed or signaled by an official patrol vessel, a vessel shall come to an immediate stop and comply with the directions given. Failure to do so may result in expulsion from the area, citation for failure to comply, or both.

(6) Any spectator vessel may anchor outside the regulated areas specified in this chapter, but may not anchor in, block, or loiter in a navigable channel.

(7) The Patrol Commander may terminate the event or the operation of any vessel at any time it is deemed necessary for the protection of life or property.

(8) The Patrol Commander will terminate enforcement of the special regulations at the conclusion of each individual event.

Dated: June 27, 2024.
M.I. Kuperman,
Captain, U.S. Coast Guard, Captain of the Port Eastern Great Lakes.

[FR Doc. 2024-14703 Filed 7-5-24; 8:45 am]

BILLING CODE 9110-04-P